NEIGHBORHOOD REINVESTMENT CORPORATION

Annual Board of Directors Meeting; Sunshine Act

TIME AND DATE: 9:00 a.m., Wednesday, June 20, 2018.

PLACE: NonProfit HR, 1400 Eye Street NW, Suite 500, Washington, DC 20005.

STATUS: Open (with the exception of Executive Sessions).

CONTACT PERSON: Rutledge Simmons, Acting EVP & General Counsel/Secretary, (202) 760-4105; RSimmons@nw.org.

Agenda

I. Call to Order

II. Approval of Minutes

III. Report from Interim CEO

IV. Board Elections

V. Executive Session: Internal Audit Report

VI. Adjournment

The General Counsel of the Corporation has certified that in his opinion, one or more of the exemptions set forth in 5 U.S.C. 552(b)(2) and (4) permit closure of the following portion(s) of this meeting:

• Report from CEO

• Internal Audit Report

Rutledge Simmons,
Acting EVP & General Counsel/Corporate Secretary.

[FR Doc. 2018-12309 Filed 6-4-18; 4:15 pm]

BILLING CODE 7570-02-P